NATIONAL AERONAUTICS AND SPACE ADMINISTRATION

[Notice (14-020)]

Notice of Intent To Grant a Partially Exclusive License

AGENCY: National Aeronautics and Space Administration.

ACTION: Notice of intent to grant partially exclusive license.

SUMMARY: This notice is issued in accordance with 35 U.S.C. 209(e) and 37 CFR 404.7(a)(1)(i). NASA hereby gives notice of its intent to grant a partially exclusive license in the United States to practice the inventions described and claimed in U.S. Patent No. 6,879,893 B2, “Tributary Analysis Monitoring System,” NASA Case No. LAR-16516-1; U.S. Patent No. 7,075,295 B2, “Magnetic Field Response Sensor for Conductive Media,” NASA Case No. LAR-16571-1; U.S. Patent No. 7,589,525 B2, “Magnetic Field Response Sensor for Conductive Media,” NASA Case No. LAR-16571-2; U.S. Patent No. 7,759,932 B2, “Magnetic Field Response Sensor for Conductive Media,” NASA Case No. LAR-16571-3; U.S. Patent No. 7,086,593 B2, “Magnetic Field Response Measurement Acquisition System,” NASA Case No. LAR-16908-1; U.S. Patent No. 7,159,774 B2, “Magnetic Field Response Measurement Acquisition System,” NASA Case No. LAR-17280-1; U.S. Patent No. 8,430,327 B2, “Wireless Sensing System Using Open-Circuit, Electrically-Conductive Spiral-Trace Sensor,” NASA Case No. LAR-17294-1; U.S. Patent No. 7,902,815 B2, “Wireless System and Method for Collecting Motion and Non-Motion Related Data of a Rotating System,” NASA Case No. LAR-17433-1; U.S. Patent No. 8,179,203 B2, “Wireless Electrical Device Using Open-Circuit Elements Having No Electrical Connections,” NASA Case No. LAR-17711-1; U.S. Patent Application No. 13/029,471, “Wireless Temperature Sensing Having No Electrical Connections and Sensing Method for Use Therewith,” NASA Case No. LAR-17747-1; and U.S. Patent Application No. 13/029,426, “Wireless Temperature Sensing Having No Electrical Connections and Sensing Method for Use Therewith,” NASA Case No. LAR-18016-1 to Par-Tech, Inc. having its principal place of business in Lake Orion, Michigan. The fields of use may be limited to, but not necessarily limited to, tire measurement and/or monitoring applications including the detection of pressure, temperature, wear and damage. The patent rights in these inventions have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 30, (757) 864-3230 (phone), (757) 864-9190 (fax).

FOR FURTHER INFORMATION CONTACT: Robin W. Edwards, Patent Counsel, Office of Chief Counsel, NASA Langley Research Center, MS 30, (757) 864-3230; Fax: (757) 864-9190. Information about other NASA inventions available for licensing can be found online at http://technology.nasa.gov.

Sumara M. Thompson-King,
Deputy General Counsel.

[FR Doc. 2014-04163 Filed 2-25-14; 8:45 am]

BILLING CODE 7510-13-P